DEPARTMENT OF COMMERCE

Bureau of the Census

[Docket Number 170412386-7386-01]

2020 Census Redistricting Data Program Commencement of Phase 2: The Voting District Project

AGENCY: Bureau of the Census, Department of Commerce.

ACTION: Notice of program.

SUMMARY: This notice announces the commencement of Phase 2 of the 2020 Census Redistricting Data Program: The Voting District Project. This second phase specifically provides States the opportunity to provide the Census Bureau with their voting district boundaries (election precincts, wards, etc.). In addition, States have the opportunity to suggest to the Census Bureau legal boundary updates. State participation in Phase 2 of the Redistricting Data Program is voluntary.

DATES: Comments on this notice must be received by July 28, 2017. The deadline for States to notify the Census Bureau that they wish to participate in Phase 2: The Voting District Project is December 15, 2017.

ADDRESSES: Please address all written comments to James Whitehorne, Chief of the Census Redistricting and Voting Rights Data Office, U.S. Census Bureau, 4600 Silver Hill Road, Room 4H057, Washington, DC 20233.

FOR FURTHER INFORMATION CONTACT: James Whitehorne, Chief of the Census Redistricting and Voting Rights Data Office, U.S. Census Bureau, Room 4H057, Washington, DC 20233, telephone (301) 763-4039.

SUPPLEMENTARY INFORMATION: Under the provisions of Public Law 94-171, as amended (Title 13, United States Code (U.S.C.), Section 141(c)), the Director of the Census Bureau is required to provide the “officers or public bodies with initial responsibility for legislative apportionment or districting of each state . . .” with the opportunity to specify small geographic areas (e.g., voting districts, wards, and election precincts) for which they wish to receive decennial census population totals for the purpose of reapportionment and redistricting.

By April 1 of the year following the census, the Secretary is required to furnish those State officials or their designees with population counts for counties, cities, census blocks, and State-specified congressional districts, legislative districts, and voting districts.

In accordance with the provisions of Title 13, U.S.C. Section 141(c), and on behalf of the Secretary of Commerce, the Director announces the commencement of Phase 2 of the 2020 Census Redistricting Data Program. The purpose of this notice is to provide further information on the commencement of the 2020 Census Redistricting Data Program, Phase 2—The Voting District Project. Future Federal Register notices will address the other phases of the 2020 Program.

The 2020 Census Redistricting Data Program was initially announced on July 15, 2014, in the Federal Register (79 FR 41258). This notice described the program that the Census Bureau proposed to adopt for the 2020 Census. As seen in the 1990, 2000, and 2010 censuses, the 2020 Census Redistricting Data Program is partitioned into several phases. Phase 1: The Block Boundary Suggestion Project was announced in a Federal Register notice on June 26, 2015 (80 FR 36765). This notice described the procedures for the States to provide the Census Bureau with their suggestions for the 2020 Census tabulation block inventory.

Beginning in late summer of 2017, and by separate letter, the Census Bureau will invite each state to participate in Phase 2, the Voting District Project, through their previously designated liaison. This phase will include an opportunity to submit voting districts and then verify the submitted voting districts prior to release of the 2020 redistricting data tabulations in Phase 3. For each State responding by December 15, 2017, that wishes to participate in Phase 2, the Census Bureau will provide data from the Master Address File/Topologically Integrated Geographic Encoding and Referencing system (MAF/TIGER), an optional software tool (Geographic Update Partnership Software (GUPS)), and the procedures necessary for each State to begin work on Phase 2. States are not required to use the GUPS; however, they are required to provide their Phase 2 submission to the Census Bureau electronically in Census Bureau specified formats. During the submission period, the Census Bureau will provide training in the use of the GUPS and assist the states in understanding the procedures necessary for processing files for their submission.

The Census Bureau will continue to communicate with each State to ensure they are well informed on the benefits of working with the Census Bureau towards a successful 2020 Census. In addition, the Redistricting Data Office will continue to work with each State to ensure they are prepared to participate in all phases of the Redistricting Data Program. Every State, regardless of their participation in Phase 1 or Phase 2, will receive the official redistricting data sets, as required by Public Law 94-171, in Phase 3 of the Redistricting Data Program.

Dated: June 21, 2017.
John H. Thompson,
Director, Bureau of the Census.

[FR Doc. 2017-13506 Filed 6-27-17; 8:45 am]

BILLING CODE 3510-07-P